NATIONAL AERONAUTICS AND SPACE ADMINISTRATION

[Notice (02-031)]

Debt Collection Improvement Act of 1966: Administrative Wage Garnishment

AGENCY: National Aeronautics And Space Administration (NASA).

ACTION: NASA's adoption of the Department of Treasury's regulation as described in 31 CFR 285.11, Administrative Wage Garnishment.

SUMMARY: The National Aeronautics and Space Administration hereby gives notice that the Agency has adopted the provisions contained in the Debt Collection Improvement Act Of 1996 (DCIA). Wage Garnishment is a process whereby an employer withholds amounts from an employee's wages and pays those amounts to the employee's creditors in satisfaction of a withholding order. The DCIA authorizes Federal agencies administratively to garnish the disposable pay of an individual to collect delinquent non-tax debts owned to the United States.

DATES: Effective: March 7, 2002.

ADDRESSES: NASA Headquarters, Code BFZ, Washington, DC 20546.

FOR FURTHER INFORMATION CONTACT: Melvin Denwiddie, (202) 358-0983.

Stephen J. Varholy,
Deputy Chief Financial Officer.

[FR Doc. 02-5402 Filed 3-6-02; 8:45 am]

BILLING CODE 7510-01-P